DEPARTMENT OF STATE

[Public Notice: 12173]

Determination Under Section 506(a)(1) of the Foreign Assistance Act of 1961 To Provide Military Assistance to Ukraine

Pursuant to the authority vested in me by section 506(a)(1) of the Foreign Assistance Act of 1961 (the “Act”) (22 U.S.C. 2318(a)(1)) and Presidential Delegation of Authority dated May 3, 2023, I hereby determine that:

• an unforeseen emergency exists which requires immediate military assistance to Ukraine; and

• the emergency requirement cannot be met under the authority of the Arms Export Control Act or any other provision of law.

I, therefore, pursuant to authority delegated to me by the President, direct the drawdown of up to $300 million in defense articles and services of the Department of Defense, and military education and training, under the authority of section 506(a)(1) of the Act to provide assistance to Ukraine. The Department of State will coordinate implementation of this drawdown.

This determination shall be reported to the Congress and published in the Federal Register.

Dated: May 3, 2023.
Antony Blinken,
Secretary of State.

Note: This document was received for publication by the Office of the Federal Register on September 6, 2023.

[FR Doc. 2023-19579 Filed 9-11-23; 8:45 am]

BILLING CODE 4710-25-P